DEPARTMENT OF TRANSPORTATION

Federal Transit Administration

Fiscal Year 2023 Competitive Funding Opportunity: Passenger Ferry Grant Program and Ferry Service for Rural Communities Program

AGENCY: Federal Transit Administration (FTA), Department of Transportation (DOT).

ACTION: Notice of funding opportunity (NOFO).

SUMMARY: The Federal Transit Administration (FTA) announces the opportunity to apply for $220.2 million in competitive grants under the Fiscal Year (FY) 2023 Passenger Ferry Grant Program (Passenger Ferry Program) and Ferry Service for Rural Communities Program (Rural Ferry Program). Of the amount being made available, $50.1 million is for the Passenger Ferry Program and approximately $170 million is for the Rural Ferry Program. FTA may award additional funding made available to the program prior to the announcement of project selections.

DATES: Complete proposals must be submitted electronically through the GRANTS.GOV “APPLY” function by 11:59 p.m. Eastern time July 17, 2023. Prospective applicants should initiate the process by promptly registering on the GRANTS.GOV website to ensure completion of the application process before the submission deadline. Instructions for applying can be found on FTA's website at https://www.transit.dot.gov/funding/grants/applying/applying-fta-funding and in the “FIND” module of GRANTS.GOV. The funding opportunity ID for the Passenger Ferry Program is FTA-2023-007-TPM-PassFerry and the funding opportunity ID for the Rural Ferry Program is FTA-2023-008-TPM-Rural Ferry. Mail and fax submissions will not be accepted.

FOR FURTHER INFORMATION CONTACT: FTAFerryPrograms@dot.gov or Vanessa Williams, FTA Office of Program Management, (202) 366-4818, or Sarah Clements, FTA Office of Program Management, (202) 366-3062.

SUPPLEMENTARY INFORMATION:

Table of Contents

A. Program Description

B. Federal Award Information

C. Eligibility Information

D. Application and Submission Information

E. Application Review Information

F. Federal Award Administration Information

G. Federal Awarding Agency Contacts

H. Other Information

A. Program Description

This Notice of Funding Opportunity (NOFO) announces the availability of FY 2023 funding for the Passenger Ferry Grant Program (Passenger Ferry Program) and Ferry Service for Rural Communities Program (Rural Ferry Program). Both programs can be found in Federal Assistance Listing: 20.532.

Federal public transportation law (49 U.S.C. 5307(h)) authorizes FTA to award grants for passenger ferries through a competitive process. The Passenger Ferry Program provides funding to designated recipients and direct recipients under FTA's Urbanized Area Formula Program, as well as public entities engaged in providing public transportation passenger ferry service in urban areas that are eligible to be direct recipients. Projects funded under the program will improve the condition and quality of existing passenger ferry services, support the establishment of new passenger ferry services, and repair and modernize ferry boats, terminals, and related facilities and equipment.

Section 71103 of the Infrastructure Investment and Jobs Act (the “Bipartisan Infrastructure Law” or “BIL”) (Pub. L. 117-58) authorizes FTA to award grants for the Rural Ferry Program through a competitive process, as described in this notice. The Rural Ferry Program provides funding for capital, operating, and planning expenses to States and territories for ferry service to rural areas. Projects funded under this program will support ferry transportation service that operated a regular schedule at any time during the five-year period from March 1, 2015, to March 1, 2020, and includes at least one route segment of at least 50 sailing (nautical) miles between two rural areas. The Consolidated Appropriations Act, 2023, (Pub. L. 117-328) provides an additional $17,500,000 for ferry service meeting the above criteria, except it is only required to serve at least two rural areas with a single route segment over 20 miles between the two rural areas and does not attribute data to an urbanized area in the National Transit Database for ferry service.

FTA recognizes that passenger ferries provide critical and cost-effective transportation links throughout the United States but face a critical backlog of state of good repair and safety investments. These programs support FTA's priorities and objectives through investments that (1) renew our transit systems, (2) reduce greenhouse gas emissions from public transportation, (3) advance racial equity by removing transportation related disparities to all populations within a project area and increasing equitable access to project benefits, (4) maintain and create good-paying jobs with a free and fair choice to join a union, and (5) connect communities by increasing access to affordable transportation options.

FTA seeks to fund projects under the Passenger Ferry and Rural Ferry Programs that:

• Reduce greenhouse gas emissions in the transportation sector, incorporate evidence-based climate resilience measures and features, reduce the lifecycle greenhouse gas emissions from the project materials, and avoid adverse environmental impacts to air or water quality, wetlands, and endangered species, and address the disproportionate negative environmental impacts of transportation on disadvantaged communities, consistent with Executive Order 14008, Tackling the Climate Crisis at Home and Abroad (86 FR 7619).

• Create proportional impacts to all populations in a project area, remove transportation related disparities to all populations in a project area, and increase equitable access to project benefits, consistent with Executive Order 13985, Advancing Racial Equity and Support for Underserved Communities Through the Federal Government (86 FR 7009).

• Address equity and environmental justice, particularly for communities that have experienced decades of under investment and are most impacted by climate change, pollution, and environmental hazards, consistent with Executive Order 14008, Tackling the Climate Crisis at Home and Abroad (86 FR 7619).

• Support the creation of good-paying jobs with the free and fair choice to join a union and the incorporation of strong labor standards and training and placement programs, especially registered apprenticeships, in project planning stages, consistent with Executive Order 14025, Worker Organizing and Empowerment (86 FR 22829), and Executive Order 14052, Implementation of the Infrastructure Investment and Jobs Act (86 FR 64335).

• Support wealth creation, consistent with the Department's Equity Action Plan through the inclusion of local inclusive economic development and entrepreneurship such as the utilization of Disadvantaged Business Enterprises, Minority-owned businesses, Women-owned businesses, or section 8(a) firms.

B. Federal Award Information

Federal public transportation law (49 U.S.C. 5307(h)) authorizes $30 million in FY 2023 contract authority funds for competitive grants under the Passenger Ferry Program. The Consolidated Appropriations Act, 2023, appropriated an additional $15 million. Of that latter amount, $5 million is available only for low- or zero-emission ferries or ferries using electric battery or fuel cell components and the infrastructure to support such ferries. Additionally, $2,149,651 remains available for allocation from the amounts made available in FY 2022 and an additional $3,000,000 from FY 2016 is available for reallocation. FTA may award additional funding made available to the program prior to the announcement of project selections. In FY 2022, FTA received 25 eligible applications from 13 States and 1 territory requesting $153 million in Federal Passenger Ferry Program funds. Eight projects were funded at a total of $34.4 million.

Division J of the BIL provides an advance appropriation of $200 million in FY 2023 funds for the Rural Ferry Program. Of that amount, $3,980,000 is for FTA oversight, and $20,000 is transferred to the USDOT Office of the Inspector General. Additionally, $43,452,559 of FY 2023 funding was awarded under the FY 2022 NOFO, making $152,547,441 available for award. Furthermore, the FY 2023 Consolidated Appropriations Act appropriated an additional $17,500,000 that may be allocated to passenger ferry service that serves at least two rural areas with a single segment over 20 miles between the two rural areas and that is not otherwise eligible for funding under the Passenger Ferry Program.

In FY 2022, FTA received 8 eligible applications from 4 States requesting $259 million in Federal Rural Ferry Program funds. All 8 projects were funded at a total of $252 million.

FTA will grant pre-award authority to incur costs for selected projects beginning on the date the FY 2023 project selections are announced on FTA's website. A project selected under the Rural Ferry Program that is a continuation of a project that was selected through the FY 2022 NOFO will be granted pre-award authority from the time of the FY 2022 selection announcement. Funds are available for obligation for five years after the fiscal year in which the awards are announced. Except for any proposed continuation of Rural Ferry projects funded from the FY 2022 NOFO, funds are available only for projects that have not already incurred costs prior to the announcement of project selections.

C. Eligibility Information

1. Eligible Applicants

Summary Table
Program | Eligible applicants
Passenger Ferry Program | Designated Recipients of section 5307 Funding. Direct Recipients of section 5307 Funding. Public Entities engaged in providing public transportation passenger ferry service in urban areas that are eligible to be a Direct Recipient.
Rural Ferry Program | States and Territories.

Eligible applicants for the Passenger Ferry Program are: (1) designated recipients as defined in FTA Circular “Urbanized Area Formula Program: Program Guidance and Application Instructions” (FTA.C.9030.1E), (2) direct recipients of FTA's Urbanized Area Formula Grants, and (3) public entities engaged in providing public transportation passenger ferry service in urban areas that are eligible to be direct recipients.

Eligible applicants for the Rural Ferry Program are States and Territories in which eligible service is operated. For the $152.6 million made available under Division J of the BIL, eligible service includes passenger ferry service that operated a regular schedule at any time between March 1, 2015, and March 1, 2020, and operated at least one segment between two rural areas located more than 50 sailing (nautical) miles apart. FTA defines a regular schedule as a published schedule for either seasonal or year-round ferry service. For the $17.5 million appropriated in the Consolidated Appropriations Act, 2023, eligible service also includes any passenger ferry service that operated a regular schedule at any time between March 1, 2015, and March 1, 2020, and operated at least one segment more than 20 miles between two rural areas. Applicants in both categories must not have attributed data to an urbanized area in their most recent report to the National Transit Database for their ferry services. Applicants must document their eligibility for the Rural Ferry Program by providing the following:

(A) Documentation such as dated and published sailing schedules to demonstrate the operation of regular scheduled service at any time during the five-year period ending March 1, 2020.

(B) Documentation such as route maps to demonstrate provision of service for at least one direct segment between two rural areas that meet the distance requirements described above (either at least 50 or 20 nautical sailing miles) during the five-year period ending March 1, 2020.

FTA will confirm the segment length based upon data reported to the National Census of Ferry Operators maintained by the Bureau of Transportation Statistics.

An eligible applicant that does not currently have an active grant with FTA will, upon selection, be required to work with an FTA regional office to establish its organization as an active grant recipient. This process may require additional documentation to support the organization's technical, financial, and legal capacity to receive and administer Federal funds under this program.

2. Cost Sharing or Matching

a. The maximum Federal share for capital projects selected under each program is 80 percent of the net project cost, with the exceptions described in paragraphs b and c below, per 49 U.S.C. 5323. The maximum Federal share for planning projects selected under the Rural Ferry Program is 80 percent. There is no maximum Federal share for operating projects selected under the Rural Ferry Program in FY 2023; however, similar to FY 2022, FTA will require the State or locality to provide, at a minimum, 75 percent of the three-year average prior to the pandemic (2017, 2018, and 2019) on an annual basis to support ferry service for the period supported by the grant. For example, if a State or locality normally provided $1 million in operating assistance annually, an applicant should include at least $750,000 in State or local operating assistance.

b. The maximum Federal share is 85 percent of the net project cost of acquiring vehicles (including clean-fuel or alternative fuel vehicles) for purposes of complying with or maintaining compliance with the Clean Air Act (CAA) or the Americans with Disabilities Act (ADA) of 1990.

c. The maximum Federal share is 90 percent of the net project cost of acquiring, installing, or constructing vehicle-related equipment or facilities (including clean fuel or alternative-fuel vehicle-related equipment or facilities) for purposes of complying with or maintaining compliance with the ADA or CAA. The award recipient must itemize the cost of specific, discrete, vehicle-related equipment associated with compliance with the ADA or CAA to be eligible for the maximum 90 percent Federal share for these costs.

Eligible sources of non-Federal matching funds include:

i. Cash from non-governmental sources other than revenues from providing the ferry services (such as fare revenues, vehicle, or cargo charges, etc.);

ii. Non-farebox revenues from the operation of public transportation service, such as the sale of advertising and concession revenues;

iii. Monies received under a service agreement with a State or local social service agency or private social service organization;

iv. Undistributed cash surpluses, replacement or depreciation cash funds, reserves available in cash, or new capital;

v. Amounts appropriated or otherwise made available to a department or agency of the Government (other than the USDOT), that are eligible to be expended for public transportation;

vi. In-kind contributions integral to the project;

vii. Revenue bond proceeds for a capital project, with prior FTA approval; and

viii. Transportation Development Credits (formerly referred to as Toll Revenue Credits).

If an applicant proposes a Federal share greater than 80 percent, the applicant must clearly explain why the project is eligible for the proposed Federal share.

3. Eligible Projects

Summary Table
Program | Eligible projects
Passenger Ferry Program | Capital Projects—purchase, construction, replacement, or rehabilitation of ferries, terminals, related infrastructure, and related equipment (including electric or low-emitting ferry vessels and related infrastructure).
Rural Ferry Program | Capital Projects—purchase, construction, replacement, or rehabilitation of ferries, terminals, related infrastructure, and related equipment (including electric or low-emitting ferry vessels and related infrastructure). Planning Projects. Operating Projects.

3A. Passenger Ferry Program—Eligible Projects

Under the Passenger Ferry Program, eligible projects are capital projects for the purchase, construction, replacement, or rehabilitation of ferries, terminals, related infrastructure, and related equipment (including fare equipment and communication devices). Projects are required to support a passenger ferry service that serves an urbanized area and may include services that operate between an urbanized area and rural areas. Ferry systems that accommodate cars must also accommodate walk-on passengers to be eligible for funding. Operating costs and planning projects are not eligible.

Under the Passenger Ferry Program only, recipients are permitted to use up to 0.5 percent of their grant award to pay for not more than 80 percent of the cost for workforce development activities eligible under Federal public transportation law (49 U.S.C. 5314(b)) and an additional 0.5 percent for costs associated with training at the National Transit Institute. Applicants must identify the proposed use of funds for these activities in the project proposal and identify them separately in the project budget. Supportive services, such as childcare and transportation assistance for participants, may be an eligible use of program funds under 49 U.S.C. 5314(b). FTA has published clarifying frequently asked questions regarding supportive services on its website at https://www.transit.dot.gov/funding/grants/federal-transit-administration-faqs-supportive-services.

3B. Rural Ferry Program—Eligible Projects

Under the Rural Ferry Program, eligible projects are capital, operating, or planning assistance. Eligible capital projects include the purchase, construction, replacement, or rehabilitation of ferries, terminals, related infrastructure, and related equipment (including fare equipment and communication devices). Only net operating expenses are eligible for assistance. Net operating expenses are those expenses that remain after the provider subtracts operating revenues from eligible operating expenses. States may further define what constitutes operating revenues, but, at a minimum, operating revenues must include farebox revenues and other fees generated directly by the ferry service such as vehicle fares, cargo fees, and cabin fees. Farebox revenues are fares paid by riders, including those who are later reimbursed by a human service agency or other user-side subsidy arrangement. For more information, please see FTA Circular 9040.1G at https://www.transit.dot.gov/regulations-and-guidance/fta-circulars/formula-grants-rural-areas-program-guidance-and-application. Eligible projects are not required to be implemented on the same route segments that resulted in applicant eligibility (e.g., the project need not be implemented on a segment of more than 20 or 50 sailing (nautical) miles). Ferry systems that accommodate cars must also accommodate walk-on passengers to be eligible for funding. Walk-on passengers are defined as passengers who board the vessel unaccompanied by any motor vehicle in which they may have arrived at the ferry terminal and which remains behind after ferry departure.

D. Application and Submission Information

1. Address To Request Application Package

Applications may be accessed at GRANTS.GOV and must be submitted electronically through GRANTS.GOV. General information for accessing and submitting applications through GRANTS.GOV can be found at https://www.fta.dot.gov/howtoapply along with specific instructions for the forms and attachments required for submission. Mail or fax submissions will not be accepted. The required SF-424 Application for Federal Assistance can be downloaded from GRANTS.GOV and the required supplemental form can be downloaded from GRANTS.GOV or the FTA website at https://www.transit.dot.gov/grants/fta-ferry-programs.

2. Content and Form of Application Submission

a. Proposal Submission

A complete proposal submission consists of two forms: (1) the SF-424 Application for Federal Assistance; and (2) the FY 2023 Passenger Ferry Program and Rural Ferry Program supplemental form. If an applicant is submitting different proposals to different programs, the applicant must submit an application for each project to each program separately. The supplemental form and any supporting documents must be attached to the “Attachments” section of the SF-424. The application must include responses to all sections of the SF-424 Application for Federal Assistance and the supplemental form, unless designated as optional. The information on the supplemental form will be used to determine applicant and project eligibility for the program, and to evaluate the proposal against the selection criteria described in part E of this notice. Failure to submit the information as requested can delay review or disqualify the application.

FTA will accept only one supplemental form per SF-424 submission. FTA encourages States and other applicants to consider submitting a single supplemental form that includes multiple activities as one project to be evaluated as a consolidated proposal. If a State or other applicant chooses to submit separate proposals for individual consideration by FTA, each proposal must be submitted using a separate SF-424 and supplemental form.

Applicants may attach additional supporting information to the SF-424 submission, including but not limited to documentation supporting the applicant's eligibility for the grant programs, letters of support, project budgets, fleet status reports, or excerpts from relevant planning documents. Supporting documentation should be described and referenced by file name in the appropriate response section of the supplemental form, or it may not be reviewed.

Information such as applicant name, Federal amount requested, local match amount, and description of areas served may be requested in varying degrees of detail on both the SF-424 and supplemental form. Applicants must fill in all fields unless otherwise stated on the forms. Applicants should not place N/A or “refer to attachment” in lieu of typing in responses in the field sections. If information is copied into the supplemental form from another source, applicants should verify that pasted text is fully captured on the supplemental form and has not been truncated by the character limits built into the form. Applicants should use both the “Check Package for Errors” and the “Validate Form” validation buttons on both forms to check all required fields on the forms and ensure that the Federal and local amounts specified are consistent.

b. Application Content

The SF-424 Application for Federal Assistance and the supplemental form will prompt applicants for the required information:

a. Applicant name.

b. Unique entity identifier (UEI) (generated by SAM.GOV).

c. Key contact information (including contact name, address, email address, and phone).

d. Congressional district(s) in which the project is located.

e. Project information (including title, executive summary, and type).

f. A detailed description of the need for the project.

g. A detailed description of how the project will support the program objectives.

h. Evidence that the project is consistent with local and regional planning objectives.

i. Evidence that the applicant can provide the non-Federal cost share.

j. A description of the technical, legal, and financial capacity of the applicant.

k. A detailed project budget that shows how different funding sources will share in each activity. The budget should identify other Federal funds the applicant is applying for or has been awarded, if any, that the applicant intends to use.

l. An explanation of the scalability of the project.

m. Details on the non-Federal matching funds.

n. For any application for operating assistance under the Rural Ferry program, the applicant should provide the amount of State or local funds provided for operating assistance for the three years of operation prior to the start of the pandemic, January 20, 2020. Applicants, at their discretion, may provide the three years of data ending on the last day of the applicant's fiscal year ending prior to January 20, 2020; end of the Federal fiscal year ending prior to January 20, 2020; or ending January 20, 2020.

o. A detailed project timeline.

p. Address all the applicable criteria and priority considerations identified in section E.

3. Unique Entity Identifier and System for Award Management (SAM)

Each applicant is required to: (1) be registered in SAM.GOV before submitting an application; (2) provide a valid unique entity identifier in its application; and (3) continue to maintain an active SAM registration with current information at all times during which the applicant has an active Federal award or an application or plan under consideration by FTA. FTA may not make an award until the applicant has complied with all applicable unique entity identifier and SAM requirements. If an applicant has not fully complied with the requirements by the time FTA is ready to make an award, FTA may determine that the applicant is not qualified to receive an award and use that determination as a basis for making a Federal award to another applicant. These requirements do not apply if the applicant has an exception approved by FTA or the U.S. Office of Management and Budget under 2 CFR 25.110(c) or (d).

All applicants must provide a unique entity identifier provided by SAM. Registration in SAM may take as little as 3-5 business days, but since there could be unexpected steps or delays (for example, if there is a need to obtain an Employer Identification Number), FTA recommends allowing ample time, up to several weeks, for completion of all steps. For additional information on obtaining a unique entity identifier, please visit https://www.sam.gov.

4. Submission Dates and Times

Project proposals must be submitted electronically through GRANTS.GOV by 11:59 p.m. Eastern Time on July 17, 2023. GRANTS.GOV attaches a time stamp to each application at the time of submission. Mail and fax submissions will not be accepted.

FTA urges applicants to submit applications at least 72 hours prior to the deadline to allow time to correct any problems that may have caused either GRANTS.GOV or FTA systems to reject the submission. Proposals submitted after the deadline will be considered only if lateness was due to extraordinary circumstances not under the applicant's control. Deadlines will not be extended due to scheduled website maintenance. GRANTS.GOV scheduled maintenance and outage times are announced on the GRANTS.GOV website.

Within 48 hours after submitting an electronic application, the applicant should receive an email message from GRANTS.GOV with confirmation of successful transmission to GRANTS.GOV. If a notice of failed validation or incomplete materials is received, the applicant must address the reason for the failed validation, as described in the email notice, and resubmit before the submission deadline. If making a resubmission for any reason, include all original attachments regardless of which attachments were updated and check the box on the supplemental form indicating this is a resubmission.

Applicants are encouraged to begin the process of registration on the GRANTS.GOV site well in advance of the submission deadline. Registration is a multi-step process, which may take several weeks to complete before an application can be submitted. Registered applicants may still be required to take steps to keep their registration up to date before submissions can be made successfully as (1) registration in SAM is renewed annually; and (2) persons making submissions on behalf of the Authorized Organization Representative (AOR) must be authorized in GRANTS.GOV by the AOR to make submissions.

5. Funding Restrictions

Funds made available under the Passenger Ferry Program may not be used to fund operating expenses, planning, or preventive maintenance. Any project that does not include the purchase, construction, replacement, or rehabilitation of ferries, terminals, related infrastructure, or related equipment is not eligible. Applicants to the Rural Ferry Program may apply for capital, operating, or planning assistance.

Except for continuation of projects funded under the FY 2022 Rural Ferry Program, funds made available under this NOFO cannot be used to reimburse applicants for otherwise eligible expenses incurred prior to the posting of project selections on FTA's website and the corresponding issuance of pre-award authority. Allowable direct and indirect expenses must be consistent with the Government-wide Uniform Administrative Requirements, Cost Principles, and Audit Requirements for Federal Awards (2 CFR part 200) and FTA Circular 5010.1E.

As required by statute, an eligible ferry service that receives funds from a State under the Rural Ferry Program shall not be attributed to an urbanized area for purposes of apportioning funds under chapter 53 of title 49, U.S. Code. In addition, an eligible service that receives funds from a State under the Rural Ferry Program shall not receive funds apportioned under section 5336 or 5337 of title 49, U.S. Code, in the same fiscal year.

6. Other Submission Requirements

Applicants are encouraged to identify scaled funding options in case insufficient funding is available to fund a project at the full requested amount. If an applicant advises that a project is scalable, the applicant must provide an appropriate minimum funding amount that will fund an eligible project that achieves the objectives of the program and meets all relevant program requirements. The applicant must provide a clear explanation of how the project budget would be affected by a reduced award. FTA may award a lesser amount whether or not a scalable option is provided.

The Department may share application information within the Department or with other Federal agencies if the Department determines that sharing is relevant to the respective program's objectives.

E. Application Review Information

1. Criteria

Projects will be evaluated primarily on the responses provided in the supplemental form. Additional information may be provided to support the responses; however, any additional documentation must be directly referenced on the supplemental form, including the file name where the additional information can be found. FTA will evaluate project proposals based on the criteria described in this notice.

a. Demonstration of Need

Applications for capital expenses to the Passenger Ferry Program or Rural Ferry Program will be evaluated based on the quality and extent to which they demonstrate how the proposed project will address an unmet need for capital investment in passenger ferry vehicles, equipment, or facilities. FTA will also evaluate the project's impact on service delivery and whether the project represents a one-time or periodic need that cannot reasonably be funded from FTA formula program allocations or State or local resources. In evaluating applications, FTA will consider, among other factors, certain project-specific criteria as outlined below:

i. For vessel replacement or rehabilitation projects (including low or zero-emission ferries):

• The age of the asset to be replaced or rehabilitated by the proposed project, relative to its useful life—those applicants that are already FTA grantees should reference the useful life benchmark for the vehicles to be replaced identified in their Transit Asset Management Plan and reported to the National Transit Database. Those applicants should also describe how replacing the vehicle will help them meet the state of good repair performance targets set in their Transit Asset Management (TAM) Plan.

• The condition of the asset to be replaced by the proposed project, as ascertained through inspections or otherwise, if available.

ii. For facility infrastructure improvements or related-equipment acquisitions:

• The age of the facility or equipment to be rehabilitated or replaced, relative to its useful life—those applicants that are already FTA grantees should reference the condition of the facility as reported to the National Transit Database and how the project will help you meet the state of good repair performance targets in your Transit Asset Management (TAM) Plan.

• The degree to which the proposed project will enable the agency to improve the maintenance and condition of the agency's fleet or related ferry assets.

iii. For vessel or facility-related expansion or new service requests:

• The degree to which the proposed project addresses a current capacity constraint that is limiting the ability of the agency to provide reliable service, meet ridership demands, or maintain vessels and related equipment.

• The degree to which the proposed new service is supported by ridership demand.

For operating projects under the Rural Ferry Program:

• The degree to which the application addresses how additional operating resources will lead to more reliable or improved service, or meet additional service demands.

• The financial need demonstrated by the applicant, including actual or projected need to maintain or initiate ferry service and a description of how existing operating resources are insufficient to meet the need.

• For expansion operating projects, projected ridership on the new service and the methodology used by the applicant to determine the projection.

For planning projects under the Rural Ferry Program:

• The degree to which the application addresses how planning resources will lead to more reliable or improved service, or meet additional service demands.

b. Demonstration of Benefits

All Applications will be evaluated based on how the ferry project will accomplish one or more of the following: (1) enhance the safety of existing ferry systems, (2) improve the state of good repair of the existing system, (3) provide additional transportation options that foster community development and access to economic opportunities, and/or (4) improve the quality of transit service to underserved communities.

Additionally, all applications will be evaluated on their support for walk-on passengers. Walk-on passengers are defined as passengers who board the vessel unaccompanied by any motor vehicle in which they may have arrived at the ferry terminal and which remains behind after ferry departure. The support for walk-on passengers will be evaluated as follows:

For replacement or rehabilitation projects, benefits will be evaluated in part based on the percentage of riders that are walk-on compared to passengers using the service to transport automobiles.

For expansion projects, benefits will be evaluated in part based on what convenient infrastructure is provided at the origin and destination of the service and at any intermediary stops that supports transit and intercity bus riders, pedestrians, or bicycles. Supporting documentation should include data that demonstrates the number of trips (passengers and vehicles), the number of walk-on passengers, and the frequency of transfers to other modes, if applicable.

In addition to the above five elements, projects for low- or zero-emission ferries under any program or projects for operating assistance under the Rural Ferry program will be evaluated as follows:

For low- or zero-emission ferries, applicants should demonstrate how the proposed ferries or infrastructure will reduce the emission of particulates and other pollutants that create local air pollution, which leads to local environmental health concerns, smog, and unhealthy ozone concentrations. Applicants should also demonstrate how the proposed ferries or infrastructure will reduce emissions of greenhouse gases from ferry operations. Projects that propose the use of zero-emission ferries and related infrastructure for producing zero onboard emissions during normal operations will be more competitive.

For operating projects under the Rural Ferry Program, applicants should address and document how the requested operating funds will be used to augment, and not replace, existing State or local operating funds.

c. Planning and Local/Regional Prioritization

Applicants that are already FTA recipients and are seeking a capital grant should demonstrate that the project is included in the investment prioritization of their Transit Asset Management (TAM) Plan.

Applicants must demonstrate how the proposed project is consistent with local and regional planning documents and identified priorities. This will involve assessing whether the project is consistent with the transit priorities identified in the long-range transportation plan and the State and Metropolitan Transportation Improvement Program (STIP/TIP). Applicants should note if the project could not be included in the financially constrained STIP or TIP due to lack of funding, and if selected that the project can be added to the federally approved STIP before grant award.

FTA encourages applicants to demonstrate State or local support by including letters of support from State departments of transportation, local transit agencies, local government officials and public agencies, local non-profit or private sector organizations, and other relevant stakeholders. Applications that include letters of support will be viewed more favorably than those that do not. For FTA to fully consider a letter of support, the letter must be included in the application package. In an area with both ferry and other public transit operators, FTA will evaluate whether project proposals demonstrate coordination with and support of other related projects within the applicant's Metropolitan Planning Organization (MPO) or the geographic region within which the proposed project will operate.

d. Local Financial Commitment

Applicants must identify the source of the local cost share and describe whether such funds are currently available for the project or will need to be secured if the project is selected for funding. FTA will consider the availability of the local cost share as evidence of local financial commitment to the project. Additional consideration will be given to those projects for which local funds have already been made available or reserved. Applicants should submit evidence of the availability of funds for the project, by including, for example, a board resolution, letter of support from the State, a budget document highlighting the line item or section committing funds to the proposed project, or other documentation of the source of non-Federal funds.

An applicant may provide documentation of previous and recent local investments in the project, which cannot be used to satisfy non-Federal matching requirements, as evidence of local financial commitment.

Applicants that request a Federal share for a capital project greater than 80 percent must clearly explain why the project is eligible for the proposed Federal share. For planning projects under the Rural Ferry Program, the Federal share may not exceed 80 percent. For operating projects under the Rural Ferry Program, there is no maximum Federal share to a grant awarded under this program, however, the applicant must maintain the non-Federal funding levels described in section C of this notice.

e. Project Implementation Strategy

Projects will be evaluated based on the extent to which the project is ready to implement within a reasonable period of time and whether the applicant's proposed implementation plans are reasonable and complete.

In assessing whether the project is ready to implement within a reasonable period of time, FTA will consider whether the project qualifies for a Categorical Exclusion, or whether the required environmental work has been initiated or completed for projects that require an Environmental Assessment or Environmental Impact Statement under the National Environmental Policy Act of 1969. As such, applicants should submit information describing the project's anticipated path and timeline through the environmental review process. If the project will qualify as a Categorical Exclusion, the applicant must say so explicitly in the application. The proposal must also state whether grant funds can be obligated within 12 months from time of award, if selected, and if necessary, the timeframe under which the TIP and STIP can be amended to include the proposed project. Additional consideration will be given to projects for which grant funds can be obligated within 12 months from time of award.

In assessing whether the proposed implementation plans are reasonable and complete, FTA will review the proposed project implementation plan, including all necessary project milestones and the overall project timeline. For projects that will require formal coordination, approvals, or permits from other agencies or project partners, the applicant must demonstrate coordination with these organizations and their support for the project, such as through letters of support.

f. Technical, Legal, and Financial Capacity

Applicants must demonstrate that they have the technical, legal, and financial capacity to undertake the project. FTA will review relevant oversight assessments and records to determine whether there are any outstanding legal, technical, or financial issues with the applicant that would affect the outcome of the proposed project. Additional information on the compliance requirements for these grants appears later in this notice.

Applicants with outstanding legal, technical, or financial compliance issues from an FTA compliance review or FTA grant-related Single Audit finding must explain how corrective actions taken will mitigate negative impacts on the project.

2. Review and Selection Process

FTA technical evaluation committees will evaluate proposals using the project evaluation criteria. FTA staff may request additional information from applicants, if necessary. After consideration of the findings of the technical evaluation committees, FTA will determine the final selection of projects for program funding. In determining the allocation of program funds, FTA may consider geographic diversity, diversity in the size of the transit systems receiving funding, walk-on vs. vehicle boardings for the impacted service, and the applicant's receipt of other competitive awards. FTA will also consider whether the project will include low or zero-emission ferries, including ferries using electric battery or fuel cell components and the infrastructure to support such ferries. FTA may consider capping the amount a single applicant may receive.

After applying the above criteria, to address climate change and sustainability, FTA will give priority consideration to applications that are expected to create significant community benefits relating to the environment, including those projects that incorporate low or no emission technology or specific elements to address greenhouse gas emissions as well as disproportionate negative impacts of climate change and pollution on disadvantaged communities.

FTA will also provide priority consideration for applicants that describe how their projects support workforce development, job quality, and wealth creation as follows:

Applicants for facility projects should identify whether they will commit to registered apprenticeship positions and use apprentices on the funded project, sometimes called an apprenticeship utilization requirement (e.g., requiring that a certain percent of all labor hours will be performed by registered apprentices). Applicants should also detail partnerships with high-quality workforce development programs with supportive services ¹ to help train, place, and retain underrepresented communities in jobs and registered apprenticeships on the project.

In addition to the above, facility projects over $35 million in total project cost, should identify whether the project will use a Project Labor/Community Workforce Agreement and whether the recipient commits to participate in the U.S. Department of Labor's Office of Federal Contract Compliance Programs (OFCCP) Mega Construction Project Program if selected by OFCCP (see F.2.e. Federal Contract Compliance).

FTA will also give priority consideration to projects that support the Justice40 initiative, https://www.transportation.gov/equity-Justice40. In support of Executive Order 14008, DOT has been developing a geographic definition of Historically Disadvantaged Communities as part of its implementation of the Justice40 Initiative. Consistent with OMB's Interim Guidance for the Justice40 Initiative, Historically Disadvantaged Communities include (a) certain qualifying census tracts, (b) any Tribal land, or (c) any territory or possession of the United States. DOT is providing a mapping tool to assist applicants in identifying whether a project is located in a Historically Disadvantaged Community Transportation Disadvantaged Census Tracts (https://www.arcgis.com/apps/dashboards/d6f90dfcc8b44525b04c7ce748a3674a). Alternatively, applicants may also choose to use the Climate and Economic Justice Screening Tool (CEJST), provided by the Council on Environmental Quality. This tool can be found at https://screeningtool.geoplatform.gov. Use of either mapping tool is optional; applicants may provide an image from the map tool outputs, or alternatively, consistent with OMB's Interim Guidance, applicants can supply quantitative, demographic data of their ridership demonstrating the percentage of their ridership that meets the criteria for disadvantage described in Executive Order 14008. Examples of indicators for Historically Disadvantaged Communities that an applicant could address using geographic or demographic information include percentages of low income, high or persistent poverty, high unemployment and underemployment, racial and ethnic residential segregation, linguistic isolation, high housing cost burden and substandard housing, and high transportation cost burden and/or low transportation access. Additionally, in support of the Justice40 Initiative, the applicant also should provide evidence of strategies that the applicant has used in the planning process to seek out and consider the needs of those historically disadvantaged and underserved by existing transportation systems. For technical assistance using the mapping tool, please contact GMO@dot.gov.

Due to funding limitations, projects that are selected for funding may receive less than the amount originally requested, even if an application did not present a scaled project option. In those cases, applicants must be able to demonstrate that the proposed projects are still viable and can be completed with the amount awarded.

3. Integrity and Performance Review

Prior to making an award with a total amount of Federal share greater than the simplified acquisition threshold (currently $250,000), FTA is required to review and consider any information about the applicant that is in the Federal Awardee Performance and Integrity Information Systems (FAPIIS) accessible through SAM.GOV. An applicant may review and comment on information about itself that a Federal awarding agency previously entered. FTA will consider any comments by the applicant, in addition to the other information in FAPIIS, in making a judgment about the applicant's integrity, business ethics, and record of performance under Federal awards when completing the review of risk posed by applicants as described in 2 CFR 200.206.

F. Federal Award Administration Information

1. Federal Award Notices

Final project selections will be posted on the FTA website. Only proposals from eligible recipients for eligible activities will be considered for funding. There is no minimum or maximum grant award amount; however, FTA intends to fund as many meritorious projects as possible. Due to funding limitations, projects that are selected for funding may receive less than the amount originally requested. In those cases, applicants must be able to demonstrate that the proposed projects are still viable and can be completed with the amount awarded.

Recipients should contact their FTA Regional Office (https://www.transit.dot.gov/about/regional-offices/regional-offices) for additional information regarding allocations for projects under the Ferry Programs.

2. Administrative and National Policy Requirements

i. Pre-Award Authority

At the time the project selections are announced, FTA will extend pre-award authority for the selected projects consistent with 2 CFR 200.458. Except for continuations of projects selected under the FY 2022 Rural Ferry Program, there is no blanket pre-award authority for these projects before announcement, and pre-award authority cannot be used prior to FTA issuance of pre-award authority. Note, for projects selected under the FY 2022 Rural Ferry Program, pre-award authority is only permissible for activities included and approved in the application submitted to that competition. FTA does not provide pre-award authority for competitive funds until projects are selected and even then, there are Federal requirements that must be met before costs are incurred. For more information about FTA's policy on pre-award authority, please see FTA's 2023 Apportionment Notice (88 FR 23117).

ii. Grant Requirements

If selected, awardees will apply for a grant through FTA's Transit Award Management System (TrAMS). All Passenger Ferry Program recipients are subject to the grant requirements of the Urbanized Area Formula Grant program (49 U.S.C. 5307). All Rural Ferry Program recipients are subject to the grant requirements of the Rural Area Formula Grant Program (49 U.S.C. 5311) as applicable, FTA's Master Agreement for financial assistance awards, the annual Certifications and Assurances required of applicants, FTA Circular “Urbanized Area Formula Program: Program Guidance and Application Instructions” (FTA.C.9030.1E) or FTA Circular “Formula Grants for Rural Areas” (FTA.C.9040.1G). All recipients must also follow the FTA Award Management Requirements Circular (FTA.C.5010.1) and the labor protections required by Federal public transportation law (49 U.S.C. 5333(b)). All these documents are available on FTA's website. Technical assistance regarding these requirements is available from each FTA regional office.

iii. Buy America and Domestic Preferences for Infrastructure Projects

As expressed in Executive Order 14005, “Ensuring the Future Is Made in All of America by All of America's Workers” (86 FR 7475), the Executive Branch should maximize, consistent with law, the use of goods, products, and materials produced in, and services offered in, the United States. Therefore, all capital procurements must comply with FTA's Buy America requirements (49 U.S.C. 5323(j)), which require that all iron, steel, and manufactured products be produced in the United States. In addition, any award must comply with the Build America, Buy America Act (BABA) (Pub. L. 117-58, sections 70901-27). The BABA provides that none of the funds provided under an award made pursuant to this notice may be used for a project unless all iron, steel, manufactured products, and construction materials are produced in the United States. FTA's Buy America requirements are consistent with BABA requirements for iron, steel, and manufactured products.

Any proposal that will require a waiver of any domestic preference standard must identify the items for which a waiver will be sought in the application. Applicants should not proceed with the expectation that waivers will be granted.

iv. Civil Rights and Title VI

As a condition of a grant award, grant recipients should demonstrate that the recipient has a plan for compliance with civil rights obligations and nondiscrimination laws, including title VI of the Civil Rights Act of 1964 (49 CFR part 21), the Americans with Disabilities Act of 1990 (ADA), section 504 of the Rehabilitation Act, other civil rights requirements, and all implementing regulations. This should include a current Title VI plan, completed Community Participation Plan (alternatively called a Public Participation Plan and often part of the overall Title VI program plan), if applicable. DOT's and the applicable Operating Administrations' Office of Civil Rights may work with awarded grant recipients to ensure full compliance with Federal civil rights requirements.

v. Disadvantaged Business Enterprise

Projects that include ferry acquisitions are subject to the transit vehicle manufacturer (TVM) rule of the Disadvantaged Business Enterprise (DBE) program regulations (49 CFR 26.49). The TVM rule requires recipients procuring transit vehicles, including ferries, to limit eligible bidders to certified TVMs. To become a certified TVM, a manufacturer of transit vehicles must submit a DBE program plan and annual goal to FTA for approval. A list of certified TVMs is posted on FTA's web page at https://www.transit.dot.gov/TVM. Recipients should contact FTA before accepting bids from entities not appearing on this list.

In lieu of restricting eligibility to certified TVMs, a recipient may, with FTA's approval, establish project-specific goals for DBE participation in the procurement of transit vehicles.

For more information on DBE requirements, please contact Monica McCallum, FTA Office of Civil Rights, 206-220-7519, Monica.McCallum@dot.gov.

vi. Federal Contract Compliance

As a condition of grant award and consistent with E.O. 11246, Equal Employment Opportunity (30 FR 12319, and as amended), all Federally-assisted construction contractors are required to make good faith efforts to meet the goals of 6.9 percent of construction project hours being performed by women, in addition to goals that vary based on geography for construction work hours and for work being performed by people of color. Under section 503 of the Rehabilitation Act and its implementing regulations, affirmative action obligations for certain contractors include an aspirational employment goal of 7 percent workers with disabilities.

The U.S. Department of Labor's Office of Federal Contract Compliance Programs (OFCCP) is charged with enforcing Executive Order 11246, section 503 of the Rehabilitation Act of 1973, and the Vietnam Era Veterans' Readjustment Assistance Act of 1974. OFCCP has a Mega Construction Project Program through which it engages with project sponsors as early as the design phase to help promote compliance with non-discrimination and affirmative action obligations. OFCCP may identify construction projects that receive an award under this notice that have a project cost above $35 million to participate in OFCCP's Mega Construction Project Program. If selected and the applicant agrees to participate, OFCCP will ask selected project sponsors to make clear to prime contractors in the pre-bid phase that award terms may require their participation in the Mega Construction Project Program. Additional information on how OFCCP makes their selections for participation in the Mega Construction Project Program is outlined under “Scheduling” on the Department of Labor website: https://www.dol.gov/agencies/ofccp/faqs/construction-compliance.

vii. Planning

FTA encourages applicants to notify the appropriate State Departments of Transportation and MPOs in areas likely to be served by the project funds made available under these initiatives and programs. Selected projects must be incorporated into the long-range plans and transportation improvement programs of States and metropolitan areas before they are eligible for FTA funding. As described under the evaluation criteria, FTA will consider whether a project is consistent with or already included in these plans when evaluating a project.

viii. Standard Assurances

The applicant assures that it will comply with all applicable Federal statutes, regulations, executive orders, directives, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

3. Reporting

Post-award reporting requirements include the electronic submission of Federal Financial Reports and Milestone Progress Reports. Applicants should include goals, targets, and indicators referenced in their applications to the project in the Executive Summary of the TrAMS application. Recipients or beneficiaries of funds made available through this NOFO are also required to regularly submit data to the National Transit Database. National Transit Database reports include total sources of revenue and complete expenditure reports for all public transportation operations, not just those funded by this project. Applicants partnering with a private operator should ensure that the private operator will meet all the comprehensive reporting requirements of the National Transit Database.

FTA is committed to making evidence-based decisions guided by the best available science and data. In accordance with the Foundations for Evidence-based Policymaking Act of 2018 (Pub. L. 115-435), FTA may use information submitted in discretionary funding applications; information in FTA's Transit Award Management System (TrAMS), including grant applications, Milestone Progress Reports (MPRs), Federal Financial Reports (FFRs); transit service, ridership and operational data submitted in FTA's National Transit Database; documentation and results of FTA oversight reviews, including triennial and State management reviews; and other publicly available sources of data to build evidence to support policy, budget, operational, regulatory, and management processes and decisions affecting FTA's grant programs.

As part of completing the annual certifications and assurances required of FTA grant recipients, a successful applicant must report on the suspension or debarment status of itself and its principals. If the award recipient's active grants, cooperative agreements, and procurement contracts from all Federal awarding agencies exceeds $10,000,000 for any period of time during the period of performance of an award made pursuant to this Notice, the recipient must comply with the Recipient Integrity and Performance Matters reporting requirements described in Appendix XII to 2 CFR part 200.

G. Federal Awarding Agency Contacts

For further information concerning this notice, please contact the FTAFerryPrograms@dot.gov, or Vanessa Williams, by phone at (202) 366-4818 or Sarah Clements at (202) 366-3062. A TDD is available for individuals who are deaf or hard of hearing at 800-877-8339. In addition, FTA will post answers to questions and requests for clarifications on FTA's website at https://www.transit.dot.gov/grants/fta-ferry-programs. To ensure receipt of accurate information about eligibility or the program, the applicant is encouraged to contact FTA directly, rather than through intermediaries or third parties. For issues with GRANTS.GOV, please contact GRANTS.GOV by phone at 1-800-518-4726 or by email at support@grants.gov. Contact information for FTA's regional offices can be found on FTA's website at https://www.transit.dot.gov/about/regional-offices/regional-offices.

H. Other Information

This program is not subject to Executive Order 12372, “Intergovernmental Review of Federal Programs.” FTA will consider applications for funding only from eligible recipients for eligible projects listed in section C.

Applications and supporting materials submitted to FTA may be subject to disclosure under Federal laws including, but not limited to, the Freedom of Information Act (FOIA). If a submission contains trade secret or confidential commercial or financial information, the submitter should segregate that information and clearly identify and mark each instance as “Confidential Business Information (CBI)” along with an explanation of its confidentiality. A general legend on the cover of an application, by itself, is insufficient marking. FTA will endeavor to protect confidential business information complying with these requirements to the extent required under law. If FTA receives a FOIA request for confidential business information, FTA will follow the procedures in DOT's FOIA regulation at 49 CFR 7.29. Only information that is segregated and marked in accordance with this section will be considered for exemption under FOIA because of its business confidentiality.

Nuria I. Fernandez,
Administrator.

[FR Doc. 2023-10551 Filed 5-17-23; 8:45 am]

BILLING CODE 4910-57-P